DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before (Insert date 20 days after publication in the Federal Register). Address written comments to Statutory Import Programs Staff, Room 3720, U.S. Department of Commerce, Washington, DC 20230. Applications may be examined between 8:30 a.m. and 5:00 p.m. at the U.S. Department of Commerce in Room 3720.

Docket Number: 15-048. Applicant: Battelle/Pacific Northwest National Laboratory, 790 6th Street, Richland, WA 99352. Instrument: Electron Microscope. Manufacturer: FEI, Co., Czech Republic. Intended Use: The instrument will be used to study radioactive ceramic and metallic materials including irradiated fuel-type materials. Justification for Duty-Free Entry: There are no instruments of the same general category manufactured in the United States. Application accepted by Commissioner of Customs: October 30, 2015.

Docket Number: 15-050. Applicant: Rutgers University, 89 French Street, New Brunswick, NJ 08901. Instrument: Junior Micromanipulator unit with remote control system, shifting table and chamber unit parts. Manufacturer: Luigs & Neumann, Germany. Intended Use: The instrument will be used to simultaneously measure the microscopic electric signals generated from neurons, specifically the patch-clamp whole cell recordings from neurons, to identify specific alterations in synaptic transmission that leads to neuropsychiatric or neurological disorders. The instrument is a highly flexible, highly precise system, offering the highest mechanical resolution and smoothest movement because of its patented spindle nut system, which guarantees a unique and extraordinary stability for long term recordings. The step motor is decoupled preventing a thermal bridge from the motor to the machine and also prevents vibration during movement. The experiments require high precision equipment to precisely determine the measurement of voltage in the mV range and current in the pA range. Justification for Duty-Free Entry: There are no instruments of the same general category manufactured in the United States. Application accepted by Commissioner of Customs: October 30, 2015.

Docket Number: 15-053. Applicant: University of California at San Diego, 9500 Gilman Drive, MC 0651, GPL Building, Room H204, La Jolla, CA 92093-0651. Instrument: Electron Microscope. Manufacturer: FEI Company, the Netherlands. Intended Use: The instrument will be used to determine three-dimensional structures of macromolecules to understand their normal functions in the cell and thus how these functions are altered in disease states. Justification for Duty-Free Entry: There are no instruments of the same general category manufactured in the United States. Application accepted by Commissioner of Customs: November 2, 2015.

Dated: December 14, 2015.
Gregory W. Campbell,
Director of Subsidies Enforcement, Enforcement and Compliance.

[FR Doc. 2015-31999 Filed 12-18-15; 8:45 am]

BILLING CODE 3510-DS-P